ENVIRONMENTAL PROTECTION AGENCY

[EPA-HQ-OW-2007; FRL -8503-9]

2007 Water Efficiency Leader Awards—Winners

AGENCY: Environmental Protection Agency (EPA).

ACTION: Notice.

SUMMARY: This notice announces the winning applications for U.S. EPA's second annual Water Efficiency Leader Awards. The awards recognize those organizations and individuals that provide leadership and innovation in water efficient products and practices. These awards are intended to help foster a nationwide ethic of water efficiency, as well as to inspire, motivate, and recognize efforts to improve water efficiency. The six winners for 2007 are; Intel Corporation, Ocotillo Campus (Chandler, AZ); Santa Clara Valley Water District (San Jose, CA); Frito-Lay (Plano, TX); Lackland Air Force Base (Lackland, TX); Kentucky Pollution Prevention Center (KPPC) at the University of Louisville (Louisville, KY); Allan Dietemann Seattle Public Utilities (Seattle, WA). More information can be found at www.epa.gov/water/wel.

FOR FURTHER INFORMATION CONTACT: Bob Rose, Telephone: (202) 564-0322.E-mail: rose.bob@epa.gov.

Dated: December 4, 2007.
Benjamin H. Grumbles,
Assistant Administrator for Water.

[FR Doc. E7-23945 Filed 12-10-07; 8:45 am]

BILLING CODE 6560-50-P